DEPARTMENT OF ENERGY

Federal Energy Regulatory Commission

[Project No. 287-009]

Midwest Hydro Inc.; Notice of Application Ready for Environmental Analysis and Soliciting Comments, Recommendations, Terms and Conditions, and Prescriptions

January 20, 2004.

Take notice that the following hydroelectric application has been filed with the Commission and is available for public inspection.

a. Type of Application: New major license.

b. Project No.: 287-009.

c. Date Filed: April 8, 2002.

d. Applicant: Midwest Hydro Inc.

e. Name of Project: Dayton Hydroelectric Project.

f. Location: On the Fox River near the City of Dayton, in La Salle County, Illinois. The project does not occupy Federal lands.

g. Filed Pursuant to: Federal Power Act 16 U.S.C. 791 (a)-825(r).

h. Applicant Contact: Mr. Loyal Gake, Midwest Hydro Inc., 116 State Street, P.O. Box 167, Neshkoro, WI 54960 (920) 293-4628.

i. FERC Contact: Tom Dean at (202) 502-6041, thomas.dean@ferc.gov.

j. Deadline for filing comments, recommendations, terms and conditions, and prescriptions: 60 days from the issuance date of this notice, reply comments due 105 days from the issuance date of this notice.

All documents (original and eight copies) should be filed with: Magalie R. Salas, Secretary, Federal Energy Regulatory Commission, 888 First Street, NE., Washington, DC 20426. Documents may be filed electronically via the Internet in lieu of paper. The Commission strongly encourages electronic filings. See 18 CFR 385.2001(a)(1)(iii) and the instructions on the Commission's Web site (http://www.ferc.gov) under the “eFiling” link.

The Commission's rules of practice and procedure require all intervenors filing documents with the Commission to serve a copy of that document on each person on the official service list for the project. Further, if an intervenor files comments or documents with the Commission relating to the merits of an issue that may affect the responsibilities of a particular resource agency, they must also serve a copy of the document on that resource agency.

k. Status of environmental analysis: This application is ready for environmental analysis at this time.

l. Description of Project: The existing project consists of: (1) A 23-foot-high, 594-foot-long arch buttress concrete dam; (2) a 200-foot-long earthen embankment; (3) a concrete head gate structure with four 15.5-foot-wide by 9.5-foot-high wooden gates; (4) a 900-foot-long, 135-foot-wide power canal; (5) a 200-acre reservoir with a normal storage capacity of 605 area-feet, at a normal pool elevation of 498.90 mean sea level; (6) a powerhouse containing three generating units with a combined capacity of 3,680 kW; and (7) appurtenant facilities.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/esubsribenow.htm to be notified via e-mail of new filings and issuances related to this or other pending projects. For assistance, contact FERC Online Support. To view upcoming FERC events, go to www.ferc.gov and click on “View Entire Calendar”.

Anyone may obtain an extension of time for these deadlines from the Commission only upon a showing of good cause or extraordinary circumstances in accordance with 18 CFR 385.2008.

All filings must: (1) Bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

n. Procedures schedule: The Commission staff proposes to issue one Environmental Assessment (EA) rather than issuing a draft and final EA. Staff intends to allow at least 30 days for entities to comment on the EA, and will take into consideration all comments received on the EA before final action is taken on the license application. The application will be processed according to the following schedule, but revisions to the schedule may be made as appropriate:

Issue notice of availability of EA: June 2004.

Ready for Commission decision on the application: August 2004.

Magalie R. Salas,
Secretary.

[FR Doc. E4-122 Filed 1-27-04; 8:45 am]

BILLING CODE 6717-01-P